DEPARTMENT OF HEALTH AND HUMAN SERVICES

Agency for Healthcare Research and Quality Agency Information Collection Activities

Proposed Collection; Comment Request

AGENCY: Agency for Healthcare Research and Quality, Department of Health and Human Services.

ACTION: Notice.

SUMMARY: This notice announces the intention of the Agency for Healthcare Research and Quality (AHRQ) to request that the Office of Management and Budget (OMB) allow the proposed information collection project: “Pilot Study of Proposed Nursing Home Survey on Resident Safety.” In accordance with the Paperwork Reduction Act of 1995, Public Law 104-13 (44 U.S.C. 3506(c)(2)(A)), AHRQ invites the public to comment on this proposed information collection.

This proposed information collection was previously published in the Federal Register on December 12th, 2006 and allowed 60 days for public comment. No public comments were received. The purpose of this notice is to allow an additional 30 days for public comment.

DATES: Comments on this notice must be received by March 15, 2007.

ADDRESSES: Written comments should be submitted to: Doris Lefkowitz, Reports Clearance Officer, AHRQ, 540 Gaither Road, Room #5036, Rockville, MD 20850, or by e-mail at doris.lefkowitz@ahrq.hhs.gov.

Copies of the proposed collection plans, data collection instruments, and specific details on the estimated burden can be obtained from AHRQ's Reports Clearance Officer.

FOR FURTHER INFORMATION CONTACT: Doris Lefkowitz, AHRQ, Reports Clearance Officer, (301) 427-1477.

SUPPLEMENTARY INFORMATION:

Proposed Project

“Pilot Study of Proposed Nursing Home Survey on Resident Safety”

The activity is an expansion and refinement of AHRQ's Hospital Survey on Patient Safety Culture (HSOPSC) which was developed and released to the public for use in November 2004. This proposed new tool is based on the HSOPSC but also contains new and revised items as well as dimensions that more accurately apply to the nursing home setting. The instrument will be pilot tested with staff in 40 nursing homes. The data collected will be analyzed to determine the psychometric properties of the survey's items and dimensions and provide information for the revision and shortening of the final survey based on an assessment of its reliability and construct validity. The final survey will be made publicly available to enable nursing homes to assess their resident safety culture.

Methods of Collection

A purposive sample of 40 nursing homes will be recruited and selected. These nursing homes will represent a distribution of bed size, nature of ownership (non-profit/for-profit), urbanicity (urban/rural), and geographic region of the United States. Recruited nursing homes will be allocated to each category in numbers roughly proportionate to the national distribution of homes in each category.

All employees, contractors and agency staff in all job classes in nursing homes with up to 200 employees will be asked to respond to the survey. In nursing homes with more than 200 employees, a random sample of 200 employees will be selected. Since not all nursing home staff have access to or are familiar with e-mail or the internet, paper surveys will be administered. Standard non-response follow-up techniques such as reminder postcards and distribution of a second survey will be used. Individuals and organizations contacted will be assured of the confidentiality of their replies under Section 924(c) of the Healthcare Research and Quality Act of 1999.

Estimated Annual Respondent Burden

The survey will be distributed to approximately 5,500 nursing home employees, with a target response rate of 70%, or 3,850 returned surveys. Respondents should take approximately 15 minutes to complete the survey. Therefore, we estimate that the respondent burden for completing the survey will be 963 hours (3,850 completes multiplied by 0.25 hours per completed survey).

Type of respondent | Number of respondents | Number of responses per respondent | Estimated time per respondent (hours) | Estimated total respondent burden hours
Nursing home staff member | 3,850 | 1 | 0.25 | 963

Estimated Annual Costs to the Federal Government

The total cost to the Government for developing this survey is approximately $319,000, and is being funded solely by AHRQ. This estimate includes the costs of a background literature review, survey development, cognitive testing, pilot data collection, data analysis, and preparation of final deliverables and reports.

Request for Comments

In accordance with the above-cited Paperwork Reduction Act legislation, comments on AHRQ's information collection are requested with regard to any of the following: (a) Whether the proposed collection of infomation is necessary for the proper performance of AHRQ health care research and health care information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public period.

Dated: January 23, 2007.
Carolyn M. Clancy,
Director.

[FR Doc. 07-573 Filed 2-12-07; 8:45am]

BILLING CODE 4160-90-M